DEPARTMENT OF TRANSPORTATION

Federal Aviation Administration

14 CFR Part 39

[Docket No. 2000-NM-150-AD]

RIN 2120-AA64

Airworthiness Directives; McDonnell Douglas Model DC-9-81 (MD-81), DC-9-82 (MD-82), DC-9-83 (MD-83), DC-9-87 (MD-87), and MD-88 Airplanes

AGENCY: Federal Aviation Administration, DOT.

ACTION: Notice of proposed rulemaking (NPRM).

SUMMARY: This document proposes the adoption of a new airworthiness directive (AD) that is applicable to certain McDonnell Douglas Model DC-9-81 (MD-81), DC-9-82 (MD-82), DC-9-83 (MD-83), DC-9-87 (MD-87), and MD-88 airplanes. This proposal would require one-time inspections to detect discrepancies of electrical wiring installations in various areas of the airplane, and corrective action if necessary. This action is necessary to prevent smoke and fire in various areas of the airplane due to heat damage and/or electrical arcing of wiring that was improperly installed during manufacture or maintenance of the airplane. This action is intended to address the identified unsafe condition.

DATES: Comments must be received by October 21, 2002.

ADDRESSES: Submit comments in triplicate to the Federal Aviation Administration (FAA), Transport Airplane Directorate, ANM-114, Attention: Rules Docket No. 2000-NM-150-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2000-NM-150-AD” in the subject line and need not be submitted in triplicate. Comments sent via the Internet as attached electronic files must be formatted in Microsoft Word 97 for Windows or ASCII text.

The service information referenced in the proposed rule may be obtained from Boeing Commercial Aircraft Group, Long Beach Division, 3855 Lakewood Boulevard, Long Beach, California 90846, Attention: Data and Service Management, Dept. C1-L5A (D800-0024). This information may be examined at the FAA, Transport Airplane Directorate, 1601 Lind Avenue, SW., Renton, Washington; or at the FAA, Los Angeles Aircraft Certification Office, 3960 Paramount Boulevard, Lakewood, California.

FOR FURTHER INFORMATION CONTACT: Technical Information: Elvin K. Wheeler, Aerospace Engineer, Systems and Equipment Branch, ANM-130L, FAA, Los Angeles Aircraft Certification Office, 3960 Paramount Boulevard, Lakewood, California 90712-4137; telephone (562) 627-5344; fax (562) 627-5210.

Other Information: Sandi Carli, Airworthiness Directive Technical Editor/Writer; telephone (425) 687-4243, fax (425) 227-1232. Questions or comments may also be sent via the Internet using the following address: sandi.carli@faa.gov. Questions or comments sent via the Internet as attached electronic files must be formatted in Microsoft Word 97 for Windows or ASCII text.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2000-NM-150-AD.” The postcard will be date stamped and returned to the commenter.

Availability of NPRMs

Any person may obtain a copy of this NPRM by submitting a request to the FAA, Transport Airplane Directorate, ANM-114, Attention: Rules Docket No. 2000-NM-150-AD, 1601 Lind Avenue, SW., Renton, Washington 98055-4056.

Discussion

As part of its practice of re-examining all aspects of the service experience of a particular aircraft whenever an accident occurs, the FAA has become aware of several incidents of damaged wiring insulation and chafed wiring in various areas on McDonnell Douglas Model DC-9-81 (MD-81), DC-9-82 (MD-82), DC-9-83 (MD-83), DC-9-87 (MD-87), and MD-88 airplanes. Investigation revealed that the damage and chafing might be attributed to improper wire installations and/or maintenance practices. This condition, if not corrected, could lead to heat damage and/or electrical arcing of the wiring, which could result in fire and smoke in various areas of the airplane.

Related Rulemaking

The FAA, in conjunction with Boeing and operators of Model DC-9 series airplanes, is continuing to review all aspects of the service history of those airplanes to identify potential unsafe conditions and to take appropriate corrective actions. This proposed AD is one of a series of actions identified during that process. The process is continuing, and the FAA may consider additional rulemaking actions as further results of the review become available.

Explanation of Relevant Service Information

The FAA has reviewed and approved five related McDonnell Douglas service bulletins that describe procedures for a one-time nonintrusive inspection to detect discrepancies of exposed electrical wiring installations in various areas of the airplane, and corrective actions if necessary. The service bulletins are described in the following table:

Service bulletin | Inspection area
MD80-24-178, Revision 01, including Appendix, dated June 12, 2001 | Forward passenger compartment from stations Y=218.000 to Y=846.000.
MD80-24-179, Revision 01, including Appendix, dated June 12, 2001 | Aft passenger compartment from stations Y=846.000 to Y=1338.000.
MD80-24-180, Revision 01, including Appendix, dated June 12, 2001 | Forward and mid cargo compartments from stations Y=218.000 to Y=811.000.
MD80-24-181, Revision 01, including Appendix, dated June 12, 2001 | Aft cargo compartment from stations Y=1033.000 to Y=1338.000.
MD80-24-182, Revision 01, including Appendix, dated June 12, 2001 | Forward accessory compartment from stations Y=41.000 to Y=70.000.

The specific discrepancies include:

• Dust, drill shavings, and other foreign object debris.

• Cracks, splits, or tears in the wiring insulation.

• Wire chafing.

• Improper adhesion of nylon grommets to the structure or surface.

• Loose sta-straps, clamps and wire bundles.

• Contact between the heads of plastic sta-straps and adjacent wiring.

• Insufficient slack of the wiring and coaxial cables.

• Improper clamp installation.

• Excessive distortion of electrical grommets.

• Loose wire terminations of the flag lug bus bar.

• Evidence that the wire terminals have overheated.

• Contact between the wiring and the access doors or adjacent structure when the doors are opened and closed.

• Insufficient clearance between wiring and brackets, between wiring and pulleys, and between wiring and control cables.

• An improper gap where the wiring is routed over structural frames.

• Improper routing of open wire runs.

• An uncovered end opening of a conduit when the conduit end is installed at any upward angle from horizontal.

Accomplishment of the actions specified in the service bulletins is intended to adequately address the identified unsafe condition.

Explanation of Requirements of Proposed Rule

Since an unsafe condition has been identified that is likely to exist or develop on other products of this same type design, the proposed AD would require accomplishment of the actions specified in the service bulletins described previously, except as discussed below.

Differences Between Proposed AD and Service Bulletins

The service bulletins specify accomplishment of “visual” inspections. The FAA has determined that the inspections described in the service bulletins constitute “detailed inspections.” Therefore, this proposed AD would require accomplishment of detailed inspections. Note 3 of this proposed AD defines such inspections.

Also, Appendix A of each service bulletin contains a form to report inspection findings. This proposed AD would not require that operators submit such a report.

Cost Impact

There are approximately 1,191 airplanes of the affected design in the worldwide fleet. The FAA estimates that 732 airplanes of U.S. registry would be affected by this proposed AD. Estimates of the costs to accomplish the proposed actions, based on the service bulletins described previously, are provided in the following table:

Service bulletin | Work hours per airplane | Labor rate per hour | Per-airplane cost | Number of U.S. airplanes affected | U.S. fleet cost
MD80-24-178 | 8 | $60 | $480 | 732 | $351,360
MD80-24-179 | 8 | 60 | 480 | 732 | 351,360
MD80-24-180 | 8 | 60 | 480 | 732 | 351,360
MD80-24-181 | 6 | 60 | 360 | 732 | 263,520
MD80-24-182 | 3 | 60 | 180 | 732 | 131,760

The cost impact figures discussed above are based on assumptions that no operator has yet accomplished any of the proposed requirements of this AD action, and that no operator would accomplish those actions in the future if this proposed AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

McDonnell Douglas: Docket 2000-NM-150-AD.

Applicability: All Model DC-9-81 (MD-81), DC-9-82 (MD-82), DC-9-83 (MD-83), DC-9-87 (MD-87), and MD-88 airplanes; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

Note 2: The FAA recommends that the actions required by this AD be accomplished after replacing the metallized polyethyleneteraphthalate (MPET) insulation blankets, as required by AD 2000-11-02, amendment 39-11750.

To prevent smoke and fire in various areas of the airplane due to heat damage and/or electrical arcing of wiring that was improperly installed during manufacture or maintenance of the airplane, accomplish the following:

Inspection

(a) Within 5 years after the effective date of this AD: Perform a detailed inspection to detect discrepancies of exposed electrical wiring installations as specified in paragraphs (a)(1) through (a)(5) of this AD. Specific discrepancies are listed in paragraph 3.B.3. of each service bulletin. Prior to further flight thereafter, perform corrective actions in accordance with the service bulletin, as applicable.

Note 3: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(1) Inspect the forward passenger compartment from stations Y=218.000 to Y=846.000, in accordance with McDonnell Douglas Service Bulletin MD80-24-178, Revision 01, dated June 12, 2001. Accomplishment of the inspection before the effective date of this AD in accordance with McDonnell Douglas Service Bulletin MD80-24-178, dated July 14, 2000, is acceptable for compliance with the requirements of paragraph (a)(1) of this AD.

(2) Inspect the aft passenger compartment from stations Y=846.000 to Y=1338.000, in accordance with McDonnell Douglas Service Bulletin MD80-24-179, Revision 01, dated June 12, 2001. Accomplishment of the inspection before the effective date of this AD in accordance with McDonnell Douglas Service Bulletin MD80-24-179, dated July 14, 2000, is acceptable for compliance with the requirements of paragraph (a)(2) of this AD.

(3) Inspect the forward and mid cargo compartments from stations Y=218.000 to Y=811.000, in accordance with McDonnell Douglas Service Bulletin MD80-24-180, Revision 01, dated June 12, 2001. Accomplishment of the inspection before the effective date of this AD in accordance with McDonnell Douglas Service Bulletin MD80-24-180, dated July 14, 2000, is acceptable for compliance with the requirements of paragraph (a)(3) of this AD.

(4) Inspect the aft cargo compartment from stations Y=1033.000 to Y=1338.000, in accordance with McDonnell Douglas Service Bulletin MD80-24-181, Revision 01, dated June 12, 2001. Accomplishment of the inspection before the effective date of this AD in accordance with McDonnell Douglas Service Bulletin MD80-24-181, dated July 14, 2000, is acceptable for compliance with the requirements of paragraph (a)(4) of this AD.

(5) Inspect the forward accessory compartment from stations Y=41.000 to Y=70.000, to detect discrepancies, in accordance with McDonnell Douglas Service Bulletin MD80-24-182, Revision 01, dated June 12, 2001. Accomplishment of the inspection before the effective date of this AD in accordance with McDonnell Douglas Service Bulletin MD80-24-182, dated July 14, 2000, is acceptable for compliance with the requirements of paragraph (a)(5) of this AD.

Alternative Methods of Compliance

(b) An alternative method of compliance or adjustment of the compliance time that provides an acceptable level of safety may be used if approved by the Manager, Los Angeles Aircraft Certification Office, FAA. Operators shall submit their requests through an appropriate FAA Principal Maintenance Inspector, who may add comments and then send it to the Manager, Los Angeles ACO.

Note 4: Information concerning the existence of approved alternative methods of compliance with this AD, if any, may be obtained from the Los Angeles ACO.

Special Flight Permits

(c) Special flight permits may be issued in accordance with sections 21.197 and 21.199 of the Federal Aviation Regulations (14 CFR 21.197 and 21.199) to operate the airplane to a location where the requirements of this AD can be accomplished.

Issued in Renton, Washington, on August 27, 2002.
Vi L. Lipski,
Manager, Transport Airplane Directorate, Aircraft Certification Service.

[FR Doc. 02-22435 Filed 9-4-02; 8:45 am]

BILLING CODE 4910-13-P